Title 3—

The President

Proclamation 10759 of May 17, 2024

National Safe Boating Week, 2024

By the President of the United States of America

A Proclamation

Boating is a beloved American pastime—each year, nearly 100 million people find peace and freedom on our Nation's lakes, rivers, bays, and oceans. This week, as so many of us look forward to summer, we remind Americans to be safe and responsible on the water.

Taking basic steps to protect yourself and your loved ones can save lives. Everyone on board should wear a life jacket at all times. Boat operators should always check the weather forecast; bring maps and emergency communication tools; and wear their engine-cut-off switch lanyard, which will automatically stop the vessel if they slip or are thrown overboard. They should always boat sober. Operating a boat is like driving a car and demands full attention.

Americans who own a boat should meanwhile make sure it meets Federal safety standards. The civilian Coast Guard Auxiliary can send volunteers to inspect your boat and its safety equipment for free. Free courses on boat safety are available in all 50 States by qualified volunteer organizations, and many offer in-person and online trainings on important topics like boat handling, marine navigation, engine maintenance, weather prediction, and more.

This week, we thank every member of the United States Coast Guard and its Federal, State, Tribal, and local partners, who not only work to prevent boating accidents through education and safety boardings but also protect and rescue distressed mariners. They have helped save thousands of lives, and we can honor their brave service by each doing our own part in staying safe on the water.

In recognition of the importance of safe boating practices, the Congress, by joint resolution approved on June 4, 1958 (36 U.S.C. 131), as amended, has authorized and requested the President to proclaim annually the 7-day period before Memorial Day weekend as “National Safe Boating Week.”

NOW, THEREFORE, I, JOSEPH R. BIDEN JR., President of the United States of America, do hereby proclaim May 18 through May 24, 2024, as National Safe Boating Week. I encourage all Americans who participate in boating activities to observe this occasion by learning more about safe boating practices and by taking advantage of boating safety education opportunities. I also encourage the Governors of the States and Territories, and appropriate officials of all units of government, to join me in encouraging boating safety in every community.

IN WITNESS WHEREOF, I have hereunto set my hand this seventeenth day of May, in the year of our Lord two thousand twenty-four, and of the Independence of the United States of America the two hundred and forty-eighth.

[FR Doc. 2024-11385

Filed 5-21-24; 8:45 am]

Billing code 3395-F4-P